INTERNATIONAL TRADE COMMISSION

[Investigation No. 337-TA-1415]

Certain Pre-Stretched Synthetic Braiding Hair and Packaging Therefor; Notice of Institution of Investigation

AGENCY: U.S. International Trade Commission.

ACTION: Notice.

SUMMARY: Notice is hereby given that a complaint was filed with the U.S. International Trade Commission on August 2, 2024, under section 337 of the Tariff Act of 1930, as amended, on behalf of JBS Hair, Inc. of Atlanta, Georgia. A supplement to the complaint was filed on August 19, 2024. The complaint, as supplemented, alleges violations of section 337 based upon the importation into the United States, the sale for importation, and the sale within the United States after importation of certain pre-stretched synthetic braiding hair and packaging therefor by reason of the infringement of certain claims of U.S. Patent No. 10,786,026 (“the '026 patent”); U.S. Patent No. 10,945,478 (“the '478 patent”); and U.S. Patent No. 10,980,301 (“the '301 patent”). The complaint further alleges that an industry in the United States exists as required by the applicable Federal Statute. The complainant requests that the Commission institute an investigation and, after the investigation, issue a general exclusion order or, in the alternative, a limited exclusion order, and cease and desist orders.

ADDRESSES: The complaint, as supplemented, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION: Authority: The authority for institution of this investigation is contained in section 337 of the Tariff Act of 1930, as amended, 19 U.S.C. 1337, and in section 210.10 of the Commission's Rules of Practice and Procedure, 19 CFR 210.10 (2024).

Scope of Investigation: Having considered the complaint, the U.S. International Trade Commission, on September 3, 2024, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1 and 9-11 of the '026 patent; claim 20 of the '478 patent; and claims 1, 4-9, and 11 of the '301 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “pre-stretched synthetic braiding hair products having a substantially cardioid shaped perimeter formed by hackling and pre-stretching synthetic hair strands having different lengths and packaging for such products”;

(3) For the purpose of the investigation so instituted, the following are hereby named as parties upon which this notice of investigation shall be served:

(a) The complainant is:

JBS Hair, Inc., 3587 Oakcliff Road, Atlanta, Georgia 30340-3014.

(b) The respondents are the following entities alleged to be in violation of section 337, and are the parties upon which the complaint is to be served:

Sun Taiyang Co., Ltd. (d/b/a Outre®), 85 Oxford Drive, Moonachie, New Jersey 07074.

Beauty Elements Corporation (d/b/a Bijouz®), 5517 NW 163rd Street, Miami Gardens, Florida 33014.

Hair Zone, Inc. (d/b/a Sensationnel®), 10 State Street, Moonachie, New Jersey 07074.

Beauty Essence, Inc. (d/b/a Supreme™ Hair US), 60 Oxford Drive, Moonachie, New Jersey 07074.

SLI Production Corp. (d/b/a It's a Wig!), 7 Capital Drive, Moonachie, New Jersey 07074.

Royal Imex, Inc. (d/b/a Zury® Hollywood), 12605 Clark Street, Santa Fe Springs, California 90670.

GS Imports, Inc. (d/b/a Golden State Imports, Inc.), 7112 Alondra Blvd., Paramount, California 90723.

Eve Hair, Inc., 3935 Paramount Blvd., Lakewood, California 90712.

Kum Kang Trading USA, Inc. (d/b/a BNGHAIR), 6422 Alondra Blvd., Paramount, California 90723.

Midway International, Inc. (d/b/a BOBBI BOSS), 13131 E 166th Street, Cerritos, California 90703.

Mayde Beauty Inc., 85 Harbor Road, Port Washington, New York 11050.

Hair Plus Trading Co., Inc. (d/b/a Femi Collection), 1327 Northbrook Parkway, Ste. 410, Suwanee, Georgia 30024.

Optimum Solution Group LLC (d/b/a Oh Yes Hair), 4070 Buford Hwy., Suite #4, Duluth, Georgia 30096.

Chois International, Inc., 4320 International Blvd., Norcross, Georgia 30093.

Twin Peak International, Inc. (d/b/a Dejavu Hair), 4340 Pleasantdale Road, Atlanta, Georgia 30340-3001.

Loc N Products, LLC, 142 Mangum Street SW, Atlanta, Georgia 30313.

Crown Pacific Group Inc., 3121 Oakcliff Industrial Street, Doraville, Georgia 30340.

Vivace, Inc. (d/b/a Dae Do Inc.), 124 Gate Lane, Levittown, New York 11756.

A-Hair Import Inc., 6423 Warren Drive, Norcross, GA 30093.

Chade Fashions, Inc., 6400 W Gross Point Road, Niles, Illinois 60714.

Mink Hair, Ltd. (d/b/a Sensual® Collection), 71 Riverview Drive, Wayne, New Jersey 07470.

Mane Concept Inc., 24 Empire Blvd., Moonachie, New Jersey 07074.

Oradell International Corp. (d/b/a MOTOWN TRESS), 3 Beaver Creek Street, Manalapan, New Jersey 07726.

Beauty Plus Trading Co., Inc. (d/b/a Janet Collection™), 210 W Commercial Avenue, Moonachie, New Jersey 07074.

Model Model Hair Fashion, Inc., 83 Harbor Road, Port Washington, New York 11050.

New Jigu Trading Corp. (d/b/a Harlem 125®), 10 Harbor Road, Port Washington, New York 11050.

Shake N Go Fashion, Inc., 85 Harbor Road, Port Washington, New York 11050.

Amekor Industries, Inc. (d/b/a Vivica A. Fox® Hair Collection), 500 Brook Road, Ste. 100, Conshohocken, Pennsylvania 19428.

I & I Hair Corp., 4215 Mcewen Road, Dallas, Texas 75244.

Zugoo Import Inc., 6670 Jones Mill Court, Suite C, Norcross, Georgia 30092.

(c) The Office of Unfair Import Investigations, U.S. International Trade Commission, 500 E Street, SW Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: September 4, 2024.
Sharon Bellamy,
Supervisory Hearings and Information Officer.

[FR Doc. 2024-20275 Filed 9-6-24; 8:45 am]

BILLING CODE 7020-02-P